NUCLEAR REGULATORY COMMISSION

Advisory Committee on Nuclear Waste; Notice of Meeting

The Advisory Committee on Nuclear Waste (ACNW) will hold its 127th meeting on June 19-21, 2001, at 11545 Rockville Pike, Rockville, Maryland, Room T-2B3.

The entire meeting will be open to public attendance.

The schedule for this meeting is as follows:

Tuesday, June 19, 2001

A. 8:30-10:15 a.m.: Opening Statement/Planning and Procedures (Open)—The Chairman will open the meeting with brief opening remarks. The Committee will then review items under consideration at this meeting and consider topics proposed for future ACNW meetings.

B. 10:30-11:30 a.m.: Overview of Private Fuel Storage (Open)—The Committee will receive an information briefing from the NRC staff on the status of the facility application for a license to store spent fuel in a facility to be constructed outside Tooele, Utah.

C. 1-2 p.m.: Update on the Pre-Closure Approach—NRC (Open)—The Committee members will receive an update and information briefing from NRC on their approach to pre-closure issues at the proposed high level waste repository at Yucca Mountain, Nevada.

D. 2-3 p.m.: Public Outreach Activities (Open)—The Committee members will receive an information briefing from NRC on their public outreach activities.

E. 3-4 p.m.: Break and Preparation of Draft ACNW Reports—The cognizant ACNW members will prepare draft reports, as needed, for consideration by the full Committee.

F. 4-6:30 p.m.: Discussion of Proposed ACNW Reports (Open)—The Committee will discuss proposed ACNW reports on High Level Waste Chemistry; Public Outreach Activity; Yucca Mountain Pre-Closure Approach; Risk-Informed, Performance Based Waste Management and Decommissioning.

Wednesday, June 20, 2001

G. 8:30-8:40 a.m.: Opening Remarks by the ACNW Chairman (Open)—The ACNW Chairman will make opening remarks regarding the conduct of the meeting.

H. 8:40-10:30 a.m.: Key Technical Issues (KTIs)—Vertical Slice Report (Open)—The Committee members will discuss their progress and the elements of a report on assigned KTIs.

I. 10:45-11:45 a.m.: Meeting Reports (Open)—The Committee will hear reports from the members and staff on meetings attended since the 126th ACNW Meeting, including the Symposium on Quantitative Risk Assessment, Public Workshop on NRC's Hearing Process for Proposed Yucca Mountain Project; Waste Package Peer Review Kickoff Meeting, NRC Meeting with Italian Delegation on Nuclear Waste Issues and Nuclear Waste Technical Review Board Meeting with NRC Commissioners.

J. 11:45-12:00 Noon: Election of ACNW Officers (Open)—The Committee will nominate and elect members to the positions of Chairman and Vice Chairman for the period July 1, 2001 through June 30, 2002.

K. 1-3:30 p.m.: DOE's Science and Engineering Report (Open)—The Committee will hear a presentation by DOE on its recently released Science and Engineering Report.

L. 3:30-7 p.m.: Preparation of ACNW Reports (Open)—The Committee will discuss proposed reports.

Thursday, June 21, 2001

M. 8:30-8:35 a.m.: Opening Remarks by the ACNW Chairman (Open)—The ACNW Chairman will make opening remarks regarding the conduct of the meeting.

N. 8:35-9:30 a.m.: Memorandum of Understanding (MOU) for Cooperation on Multimedia Environmental Models (Open)—The Committee will receive an information briefing on the recently signed MOU for Interagency Cooperation in Research and Development of Multimedia Environmental Models for Human and Environmental Health Risk Assessment.

O. 9:30-11 a.m.: Discussion of Proposed ACNW Reports (Open)—The Committee will continue its discussion of proposed ACNW reports.

P. 11-12:30 p.m.: Overview of Sequoyah Fuels (Open)—The Committee will receive an information briefing from the NRC staff on the current status of activities at the Sequoyah Fuels Corporation Facility.

Q. 1:30-2 p.m.: Miscellaneous (Open)—The Committee will discuss matters related to the conduct of Committee activities and matters and specific issues that were not completed during previous meetings, as time and availability of information permit.

Procedures for the conduct of and participation in ACNW meetings were published in the Federal Register on October 11, 2000 (65 FR 60475). In accordance with these procedures, oral or written statements may be presented by members of the public, electronic recordings will be permitted only during those portions of the meeting that are open to the public, and questions may be asked only by members of the Committee, its consultants, and staff. Persons desiring to make oral statements should notify Howard J. Larson, ACNW, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office, prior to the meeting. In view of the possibility that the schedule for ACNW meetings may be adjusted by the Chairman as necessary to facilitate the conduct of the meeting, persons planning to attend should notify Mr. Larson as to their particular needs.

Further information regarding topics to be discussed, whether the meeting has been canceled or rescheduled, the Chairman's ruling on requests for the opportunity to present oral statements and the time allotted therefore can be obtained by contacting Mr. Howard J. Larson, ACNW (Telephone 301/415-6805), between 8 a.m. and 5 p.m. EDT.

ACNW meeting notices, meeting transcripts, and letter reports are now available for downloading or viewing on the internet at http://www.nrc.gov/ACRSACNW.

Videoteleconferencing service is available for observing open sessions of ACNW meetings. Those wishing to use this service for observing ACNW meetings should contact Mr. Theron Brown, ACNW Audiovisual Technician (301/415-8066), between 7:30 a.m. and 3:45 p.m. EDT at least 10 days before the meeting to ensure the availability of this service. Individuals or organizations requesting this service will be responsible for telephone line charges and for providing the equipment and facilities that they use to establish the videoteleconferencing link. The availability of videoteleconferencing services is not guaranteed.

Dated: May 24, 2001.
Andrew L. Bates,
Advisory Committee Management Officer.

[FR Doc. 01-13610 Filed 5-30-01; 8:45 am]

BILLING CODE 7590-01-P